DEPARTMENT OF HOUSING AND URBAN DEVELOPMENT

[Docket No. FR-5345-N-01]

Notice of HUD-Held Noncompetitive Sales of Assets

AGENCY: Office of the Assistant Secretary for Housing—Federal Housing Commissioner, HUD.

ACTION: Notice of sales of two portfolios of Secretary-held mortgage loans to units of Local Government using Section 237 of Fiscal Year 2009 Omnibus Appropriations Act.

SUMMARY: This notice announces HUD's intention to sell certain subsidized and nonsubsidized multifamily and healthcare mortgage loans in noncompetitive sales to units of State and Local Government.

DATES: Acceptance of pricing and closing of the sale of the assets.

FOR FURTHER INFORMATION CONTACT: John Lucey, Deputy Director, Asset Sales Office, Room 3136, U.S. Department of Housing and Urban Development, 451 Seventh Street, SW., Washington, DC 20410-8000; telephone 202-708-2625, extension 3927. Hearing- or speech-impaired individuals may call 202-708-4594 (TTY). These are not toll-free numbers.

SUPPLEMENTARY INFORMATION: HUD announces its intention to sell certain subsidized and nonsubsidized mortgage loans (Mortgage Loans) secured primarily by multifamily properties and one healthcare property to units of State and Local Government in noncompetitive transactions. The subsidized mortgage loans contain Section 8 assistance, Below Market Interest Rates, or Section 236 Interest Rate Reduction Payments. The final listings of the Mortgage Loans will be available upon request. The Mortgage Loans will be sold without FHA insurance and with servicing released to a unit of State and Local Government which will service and maintain the mortgage loans as an important element of continuing the mission of providing affordable housing.

Two loan portfolio sales are in process:

(1) A portfolio of ten subsidized multifamily loans collateralized by 1,763 affordable units in New York City; and

(2) A portfolio of seven multifamily loans (six nonsubsidized loans, one subsidized loan), collateralized by 2,274 units, in Arizona, California, the District of Columbia, Illinois, and Tennessee.

Due Diligence Review

Upon HUD's receipt of an executed Confidentiality Agreement by the interested purchaser, they will be granted access to the available loan information for the loans to be offered in the sale. Access to loan information will be provided through electronic transfer of files.

Mortgage Loan Sale Policy

HUD reserves the right to add Mortgage Loans to or delete Mortgage Loans from any sale at any time prior to the Award Date. Mortgage Loans will not be withdrawn after the Award Date except as is specifically provided in the Loan Sale Agreement. The new mortgagor will be bound to the terms indicated by the Loan Sale Agreement. Regulatory Agreements and Escrow Accounts may continue and may be assigned to the mortgagee.

These are sales of Mortgage Loans to a unit of local government, pursuant to Section 203(k)(3) of the Housing and Community Development Amendments of 1978, Section 204 of the Departments of Veterans Affairs and Housing and Urban Development, and Independent Agencies Appropriations Act, 1997, and Section 237 of the Omnibus Appropriations Act of 2009.

Mortgage Loan Sale Procedure

HUD will pursue noncompetitive sales as the method to sell the Mortgage Loans. This method of sale will ensure affordable housing by awarding the Mortgage Loans to units of State and Local Government. The final purchase price will be based on the Office of Management and Budget's approved market valuation methodology and, if applicable, adjusted by immediate repairs required to maintain the property. The itemized cost of immediate repairs shall adhere to HUD's Post-Closing Repair Requirements form HUD-9552.

Freedom of Information Act Requests

HUD will comply with the provisions of the Freedom of Information Act, 5 U.S.C. 552 and applicable regulations, in its disclosure of information regarding these sales, including, but not limited to, the successful bid price or bid percentage for any pool of loans or individual loan, upon the closing of the sales of all the Mortgage Loans.

Scope of Notice

This notice applies to these sales only and does not establish HUD's policy for the sale of other mortgage loans.

Dated: August 17, 2009.
Ronald Y. Spraker,
Acting General Deputy Assistant Secretary for Housing—Federal Housing Commissioner.

[FR Doc. E9-20157 Filed 8-20-09; 8:45 am]

BILLING CODE 4210-67-P